DEPARTMENT OF TRANSPORTATION

Federal Aviation Administration

Notice of Request To Release Airport Property

AGENCY: Federal Aviation Administration (FAA), DOT.

ACTION: Notice of intent to rule on request to release airport property at the Colonel James Jabara Airport (AAO), Wichita, Kansas.

SUMMARY: The FAA proposes to rule and invites public comment on the release of land at the Colonel James Jabara Airport (AAO), Wichita, Kansas, under the provisions of 49 U.S.C. 47107(h)(2).

DATES: Comments must be received on or before February 27, 2014.

ADDRESSES: Comments on this application may be mailed or delivered to the FAA at the following address: Lynn D. Martin, Airports Compliance Specialist, Federal Aviation Administration, Airports Division, ACE-610C, 901 Locust Room 364, Kansas City, MO 64106.

In addition, one copy of any comments submitted to the FAA must be mailed or delivered to: John Oswald, Airport Engineer, Colonel James Jabara Airport, Wichita Airport Authority; 2173 Air Cargo Rd., Wichita, KS 67209, (316) 946-4700.

FOR FURTHER INFORMATION CONTACT: Lynn D. Martin, Airports Compliance Specialist, Federal Aviation Administration, Airports Division, ACE-610C, 901 Locust Room 364, Kansas City, MO 64106, (816) 329-2644, lynn.martin@faa.gov.

The request to release property may be reviewed, by appointment, in person at this same location.

SUPPLEMENTARY INFORMATION: The FAA invites public comment on the request to release approximately 5.22± acres of airport property at the Colonel James Jabara Airport (AAO) under the provisions of 49 U.S.C. 47107(h)(2). On September 15, 2013, the City of Wichita's Airport Engineer requested from the FAA that approximately 5.22± acres of property be released for sale to Sedgwick County Public Works for the purpose of road widening and utilities. On December 22, 2013, the FAA determined that the request to release property at Colonel James Jabara Airport (AAO) submitted by the Sponsor meets the procedural requirements of the Federal Aviation Administration and the release of the property does not and will not impact future aviation needs at the airport. The FAA may approve the request, in whole or in part, no sooner than thirty days after the publication of this Notice.

The following is a brief overview of the request:

Colonel James Jabara Airport (AAO) is proposing the release of a parcel, totaling 5.22± acres. The release of land is necessary to comply with Federal Aviation Administration Grant Assurances that do not allow federally acquired airport property to be used for non-aviation purposes. The sale of the subject property will result in the land at the Colonel James Jabara Airport (AAO) being changed from aeronautical to nonaeronautical use and release the surface lands from the conditions of the AIP Grant Agreement Grant Assurances, but retaining the mineral rights. In accordance with 49 U.S.C. 47107(c)(2)(B)(i) and (iii), the airport will receive fair market value for the property.

Any person may inspect, by appointment, the request in person at the FAA office listed above under FOR FURTHER INFORMATION CONTACT. In addition, any person may, upon appointment and request, inspect the application, notice and other documents determined by the FAA to be related to the application in person at the Colonel James Jabara Airport.

Re-Issued in Kansas City, MO, on January 16, 2014.
Jim A. Johnson,
Manager, Airports Division.

[FR Doc. 2014-01602 Filed 1-27-14; 8:45 am]

BILLING CODE 4910-13-P